DEPARTMENT OF COMMERCE

International Trade Administration

[C-570-052]

Countervailing Duty Investigation of Certain Hardwood Plywood Products From the People's Republic of China: Final Affirmative Determination, and Final Affirmative Critical Circumstances Determination, in Part

AGENCY: Enforcement and Compliance, International Trade Administration, Department of Commerce.

SUMMARY: The Department of Commerce (Department) determines that countervailable subsidies are being provided to producers and exporters of certain hardwood plywood products (hardwood plywood) from the People's Republic of China (PRC). The period of investigation is January 1, 2015, through December 31, 2015. For information on the estimated subsidy rates, see the “Suspension of Liquidation” section of this notice.

DATES: Applicable November 16, 2017.

FOR FURTHER INFORMATION CONTACT: Matthew Renkey or Justin Neuman, AD/CVD Operations, Office V, Enforcement and Compliance, International Trade Administration, U.S. Department of Commerce, 1401 Constitution Avenue NW., Washington, DC 20230; telephone 202.482.2312 or 202.482.0486, respectively.

SUPPLEMENTARY INFORMATION:

Background

The petitioner in this investigation is the Coalition for Fair Trade in Hardwood Plywood and its individual members, Columbia Forest Products, Commonwealth Plywood Inc., Murphy Plywood, Roseburg Forest Products Co., States Industries, Inc., and Timber Products Company (the petitioners). In addition to the Government of China (GOC), the mandatory respondents in this investigation are Linyi Sanfortune Wood Co., Ltd. (Sanfortune) and Dongfang Bayley Wood Co., Ltd. (Bayley Wood). The Department has determined that Bayley Wood is cross-owned with Linyi Yinhe Panel Factory, a producer of subject merchandise, and will refer to them collectively as “Bayley Wood.”

The Department published its Preliminary Determination on April 25, 2017.¹ On October 24, 2017, the Department issued a Post-Preliminary Analysis.² A complete summary of the events that occurred since the Preliminary Determination, as well as a full discussion of the issues raised by the parties for this final determination, may be found in the Issues and Decision Memorandum accompanying the Final Affirmative Determination,³ which is dated concurrently with, and hereby adopted by, this notice. The Issues and Decision Memorandum is a public document and is available electronically via Enforcement and Compliance's Antidumping and Countervailing Duty Centralized Electronic Service System (ACCESS). Access to ACCESS is available to registered users at https://access.trade.gov and to all parties in the Central Records Unit, Room B8024 of the Department's main building. In addition, a complete version of the Issues and Decision Memorandum can be viewed at http://enforcement.trade.gov/frn. The signed Issues and Decision Memorandum and the electronic version are identical in content.

¹ See Certain Hardwood Plywood Products from the People's Republic of China: Preliminary Affirmative Countervailing Duty Determination, Preliminary Affirmative Critical Circumstances Determination, in Part, and Alignment of Final Determination with Final Antidumping Duty Determination, 82 FR 19022 (April 25, 2017) (Preliminary Determination).

² See Department Memorandum, “Certain Hardwood Plywood Products from the People's Republic of China: Post-Preliminary Analysis,” dated October 24, 2017 (Post-Preliminary Analysis).

³ See Department Memorandum, “Countervailing Duty Investigation of Certain Hardwood Plywood Products from the People's Republic of China: Issues and Decision Memorandum for the Final Affirmative Determination,” dated concurrently with, and hereby adopted by, this notice (Issues and Decisions Memorandum).

Methodology

The Department is conducting this countervailing duty (CVD) investigation in accordance with section 701 of the Tariff Act of 1930, as amended (Act). For each of the subsidy programs found to be countervailable, we determine that there is a subsidy (i.e., a financial contribution by an “authority” that gives rise to a benefit to the recipient) and that the subsidy is specific. For a full description of the methodology underlying our final determination, see the Issues and Decisions Memorandum.

Scope of the Investigation

The product covered by this investigation is hardwood plywood from the PRC. For a complete description of the scope of this investigation, see Appendix II.

Analysis of Subsidy Programs and Comments Received

All issues raised in the comments filed by interested parties to this proceeding are discussed in the Issues and Decision Memorandum. A list of the issues raised by interested parties and responded to by the Department in the Issues and Decisions Memorandum are attached at Appendix I to this notice.

Use of Adverse Facts Available

For purposes of this final determination, we relied on facts available, and because certain respondents did not act to the best of their ability in responding to the Department's requests for information, we drew an adverse inference, where appropriate, in selecting from among the facts otherwise available.⁴ A full discussion of our decision to rely on adverse facts available is presented in the “Use of Facts Otherwise Available and Adverse Inferences” section of the Issues and Decisions Memorandum.

⁴ See sections 776(a) and (b) of the Act.

Changes Since the Preliminary Determination

Based on our review and analysis of the comments received from parties, and minor corrections accepted at verification, we made certain changes to the respondents' subsidy rate calculations since the Preliminary Determination. For a discussion of these changes, see the Issues and Decision Memorandum.

Final Affirmative Determination of Critical Circumstances, in Part

In the Preliminary Determination, the Department found that critical circumstances exist with respect to imports of hardwood plywood from the PRC for Bayley Wood and all other exporters or producers not individually examined (including those that did not respond to our quantity and value (Q&V) questionnaire).⁵ Upon further analysis of the data and comments submitted by interested parties following the Preliminary Determination, we are modifying our findings for this final determination. Specifically, in accordance with section 705(a)(2) of the Act, we find that critical circumstances exist with respect to imports from Bayley Wood and the companies that did not respond to the Q&V questionnaire, but do not exist for Sanfortune and “all other” producers or exporters.⁶

⁵ See Preliminary Determination at 19023.

⁶ See the Issues and Decision Memorandum.

Final Determination

In accordance with section 705(c)(1)(B)(i)(I) of the Act, we calculated an estimated individual countervailable subsidy rate for each producer/exporter of the subject merchandise individually investigated.

In accordance with section 705(c)(5)(A) of the Act, for companies not individually investigated, we applied an “all-others” rate, which is normally calculated by weighting the subsidy rates of the individual companies selected as mandatory respondents by those companies' exports of the subject merchandise to the United States. Under section 705(c)(5)(A)(i) of the Act, the all-others rate excludes zero and de minimis rates calculated for the exporters and producers individually investigated, as well as rates based entirely on facts otherwise available. In this investigation, the only non-de minimis rate, or rate not based entirely on facts otherwise available, is the rate calculated for Sanfortune. Consequently, the rate calculated for Sanfortune is assigned as the “all-others” rate.

Company | Subsidy rate (percent)
Shandong Dongfang Bayley Wood Co., Ltd ⁷ | 194.90
Linyi Sanfortune Wood Co., Ltd | 22.98
All-Others | 22.98
Anji Qichen Bamboo Industry Co. Ltd ⁸ | 194.90
Deqing Shengqiang Wood Co., Ltd | 194.90
Guangxi Sunway Cen.Xi Artificial Board Ltd | 194.90
Guangxi Sunway Forest Products Industry Co., Ltd | 194.90
Hebei Tongli Wood Co., Ltd | 194.90
Heze Fulin Wood Products Co., Ltd | 194.90
Jiashan Minghong Wood Industry Co., Ltd | 194.90
Jiaxing Brilliant Import & Export Co., Ltd | 194.90
Keens Products | 194.90
King Sheng | 194.90
Kunming Alston Ast Wood Products Co., Ltd | 194.90
Langfang Baomujie Wood Co., Ltd | 194.90
Larkcop International Co., Ltd | 194.90
Linyi Cathay Pacific Wood Factory | 194.90
Linyi Celtic Wood Co., Ltd | 194.90
Linyi Dongri Plywood Co., Ltd | 194.90
Linyi Hongma | 194.90
Linyi Jinhua Wood Co., Ltd | 194.90
Linyi Kai Yi Arts and Crafts Co., Ltd | 194.90
Linyi Laiyi Timber Industry Co., Ltd | 194.90
Linyi Lianyi Wood Co., Ltd | 194.90
Linyi Raya Commerce | 194.90
Linyi Yutai Wood Co., Ltd | 194.90
Lishui Liancheng Pencil Manufacturing Co., Ltd | 194.90
Mol Consolidation Service | 194.90
Ningbo Asia Pulp and Paper | 194.90
Ningbo Zhonghua Paper | 194.90
Qiangsheng Wood Co., Ltd | 194.90
Qingdao Liansheng International Trading | 194.90
Qufu Shengda Wood Co., Ltd | 194.90
Shandong Fengtai Wood Co., Ltd | 194.90
Shandong Hongyang Fire Resistant | 194.90
Shandong Xingang Group | 194.90
Shanghai Sunshine Decorative Materials Co., Ltd | 194.90
Shenghe Wood Company Ltd | 194.90
Shouguang Evergreen Im & Ex Co. Ltd ⁹ | 194.90
Shouguang Taizhong Wood Co., Ltd | 194.90
Siyang Jiayuan Woodindustry Co., Ltd | 194.90
Siyang Senda Wood Industry Co., Ltd | 194.90
Suqian Bairun Wood Industry Co., Ltd | 194.90
Suqian Foreign Trade Co., Ltd | 194.90
Suqian Sulu Wood Industry Co., Ltd ¹⁰ | 194.90
Suzbou Dong He Wood Co., Ltd | 194.90
Tianjin Canex | 194.90
Tianjin Zhanye Metal Products Co., Ltd | 194.90
Xuzhou Fuyuan Wood Co., Ltd | 194.90
Xuzhou Hongwei Wood Co., Ltd | 194.90
Xuzhou Ruilin Timber Co., Ltd | 194.90
Xuzhou Shenghe Wood Products | 194.90
Xuzhou Woodhi Trading Co. Ltd | 194.90
Xuzhou Yishun Brightwood Co. Ltd | 194.90
Xuzhou Zhongda Building Materials Co., Ltd | 194.90
Xuzhou Zhongyuan Wood Co., Ltd | 194.90
Yixing Lion-King Timber Industry Co., Ltd | 194.90
Zhejiang Deqing Shengqiang Wood Co., Ltd | 194.90
Zhejiang Fuerjia Wooden Company | 194.90
Zhejiang Jufeng Wood Co., Ltd | 194.90
Zhejiang Xinyuan Bamboo Products Co., Ltd | 194.90
Zhejiang Yongyu Bamboo Joint-Stock Co., Ltd | 194.90

Disclosure

We intend to disclose to parties in this proceeding the calculations performed for this final determination within five days of the date of public announcement of our final determination, in accordance with 19 CFR 351.224(b).

⁷ As discussed in the Preliminary Determination, the Department has found that Bayley Wood is cross-owned with Linyi Yinhe Panel Factory (Yinhe Panel), a producer of subject merchandise. The Department also applied total adverse facts available (AFA) to Bayley Wood and Yinhe Panel.

⁸ This company and those listed below are receiving the AFA rate because they did not respond to our quantity and value questionnaire.

⁹ This company was listed as having the following two “aka” names: Shouguang Evergreen Co., Ltd. and Weifang Evergreen Wood Co., Ltd.

¹⁰ This company was listed as having the following “aka” name: Suqian Sulu Import and Export Trading.

Suspension of Liquidation

As a result of our Preliminary Determination and pursuant to section 703(d) of the Act, we instructed U.S. Customs and Border Protection (CBP) to suspend liquidation of all entries of hardwood plywood from the PRC, that were entered, or withdrawn from warehouse, for consumption on or after April 25, 2017, the date of the publication of the Preliminary Determination in the Federal Register (except for those companies for which we made a preliminary affirmative determination of critical circumstances, as explained below). In accordance with section 703(d) of the Act, we instructed CBP to discontinue the suspension of liquidation for CVD purposes for subject merchandise entered, or withdrawn from warehouse, on or after August 23, 2017, but to continue the suspension of liquidation of all entries from April 25, 2017, through August 22, 2017.

The Department continues to find that critical circumstances exist for those companies receiving AFA (i.e., Bayley Wood and those companies that did not respond to our quantity and value questionnaire),¹¹ and therefore we will instruct CBP to continue to suspend liquidation of all entries of subject merchandise from the PRC-wide entity entered, or withdrawn from warehouse, for consumption on or after January 25, 2017, which is 90 days prior to the date of publication of the Preliminary Determination. CBP shall continue to require a cash deposit equal to the rates shown above. These instructions suspending liquidation will remain in effect until further notice.

¹¹ See footnote 8 above.

In accordance with the preliminary affirmative determination of critical circumstances, we instructed CBP to suspend liquidation of all entries of the subject merchandise from “all other” producers and exporters, which were entered or withdrawn from warehouse, on or after January 25, 2017, which is 90 days prior to April 25, 2017, the date of publication of the Preliminary Determination. Because we do not find critical circumstances for the “all-other” producers and exporters in this final determination, we will instruct CBP to terminate suspension of liquidation, and release any cash deposits or bonds, on imports during the 90-day period prior to the date of publication of the Preliminary Determination.

If the U.S. International Trade Commission (ITC) issues a final affirmative injury determination, we will issue a CVD order and reinstate the suspension of liquidation under section 706(a) of the Act, requiring a cash deposit of estimated CVDs for such entries of subject merchandise in the amounts indicated above. If the ITC determines that material injury, or threat of material injury, does not exist, this proceeding will be terminated and all estimated duties deposited or securities posted as a result of the suspension of liquidation will be refunded or canceled.

International Trade Commission Notification

In accordance with section 705(d) of the Act, we will notify the ITC of our determination. In addition, we are making available to the ITC all non-privileged and non-proprietary information relating to this investigation. We will allow the ITC access to all privileged and business proprietary information in our files, provided the ITC confirms that it will not disclose such information, either publicly or under an administrative protective order (APO), without the written consent of the Assistant Secretary for Enforcement and Compliance.

Return or Destruction of Proprietary Information

In the event that the ITC issues a final negative injury determination, this notice will serve as the only reminder to parties subject to an APO of their responsibility concerning the destruction of proprietary information disclosed under APO in accordance with 19 CFR 351.305(a)(3). Timely written notification of the return or destruction of APO materials or, alternatively, conversion to judicial protective order, is hereby requested. Failure to comply with the regulations and terms of an APO is a violation that is subject to sanction.

This determination is published pursuant to sections 705(d) and 777(i) of the Act.

Dated: November 6, 2017.
Gary Taverman,
Deputy Assistant Secretary for Antidumping and Countervailing Duty Operations, performing the non-exclusive functions and duties of the Assistant Secretary for Enforcement and Compliance.

Appendix I

List of Topics Discussed in the Issues and Decision Memorandum

I. Summary

II. Background

III. Scope of The Investigation

IV. Scope Comments

V. Subsidies Valuation

VI. Benchmarks and Discount Rates

VII. Final Determination of Critical Circumstances

VIII. Use of Facts Otherwise Available and Adverse Inferences

IX. Analysis of Programs

X. Analysis of Comments

Comment 1: The Department's Continued Use of AFA for Bayley Wood

Comment 2: Selection of Electricity AFA Benchmark

Comment 3: Whether Sanfortune Was Uncreditworthy and Whether Certain of Its Loans Should Be Treated as Long-Term Loans

Comment 4: Whether Two Grants Received by Sanfortune Should Be Consolidated

Comment 5: Treatment of Sanfortune's Outstanding Time Drafts

Comment 6: Electricity for LTAR Benefit Attribution for Sanfortune

Comment 7: Land for LTAR Benefit Attribution for Sanfortune

Comment 8: Whether Certain of Sanfortune's Loans Are Export Loans

Comment 9: Correction of Mistranslations in the GOC's Explanation of Transformer Capacities

Comment 10: Whether Loans to the Hardwood Plywood Industry Are Countervailable

Comment 11: Whether the Department Should Apply AFA and Find the Provision of Electricity To Be Provided for LTAR

Comment 12: Whether the Department Should Apply AFA to Find That Land Was Provided to Sanfortune for LTAR

Comment 13: Whether the Department Should Apply AFA for the Specificity for Four of Sanfortune's Reported Grants

Comment 14: Whether JOC Yuantai Should Receive the All Others Rate, Rather Than the AFA Rate

Comment 15: Critical Circumstances

Comment 16: All-Others Rate Calculation

Comment 17: Presentation of Sanfortune's Drawer Slides at Verification

Comment 18: Whether the Department Properly Initiated on the Petitioners' New Subsidy Allegations

Comment 19: Whether the Provision of Urea for LTAR Is Countervailable

Comment 20: Whether the GOC Provided Formaldehyde to Sanfortune

Comment 21: Whether the COG's Provision of Timber, UF Resin, and Cut Timber for LTAR Is Specific

Comment 22: Whether the Department Should Correct the Ocean Freight Data Used in Calculating the Urea and Formaldehyde Benchmarks

Comment 23: Whether Veneers Are Included as Part of the Program for the Provision of Cut Timber for LTAR

Comment 24: Export-Buyers' Program

XI. Recommendation

Appendix II

Scope of the Investigation

The merchandise subject to this investigation is hardwood and decorative plywood, and certain veneered panels as described below. For purposes of this proceeding, hardwood and decorative plywood is defined as a generally flat, multilayered plywood or other veneered panel, consisting of two or more layers or plies of wood veneers and a core, with the face and/or back veneer made of non-coniferous wood (hardwood) or bamboo. The veneers, along with the core may be glued or otherwise bonded together. Hardwood and decorative plywood may include products that meet the American National Standard for Hardwood and Decorative Plywood, ANSI/HPVA HP-1-2016 (including any revisions to that standard).

For purposes of this investigation a “veneer” is a slice of wood regardless of thickness which is cut, sliced or sawed from a log, bolt, or flitch. The face and back veneers are the outermost veneer of wood on either side of the core irrespective of additional surface coatings or covers as described below.

The core of hardwood and decorative plywood consists of the layer or layers of one or more material(s) that are situated between the face and back veneers. The core may be composed of a range of materials, including but not limited to hardwood, softwood, particleboard, or medium-density fiberboard (MDF).

All hardwood plywood is included within the scope of this investigation regardless of whether or not the face and/or back veneers are surface coated or covered and whether or not such surface coating(s) or covers obscures the grain, textures, or markings of the wood. Examples of surface coatings and covers include, but are not limited to: Ultra violet light cured polyurethanes; oil or oil-modified or water based polyurethanes; wax; epoxy-ester finishes; moisture-cured urethanes; paints; stains; paper; aluminum; high pressure laminate; MDF; medium density overlay (MDO); and phenolic film. Additionally, the face veneer of hardwood plywood may be sanded; smoothed or given a “distressed” appearance through such methods as hand-scraping or wire brushing. All hardwood plywood is included within the scope even if it is trimmed; cut-to-size; notched; punched; drilled; or has underwent other forms of minor processing.

All hardwood and decorative plywood is included within the scope of this investigation, without regard to dimension (overall thickness, thickness of face veneer, thickness of back veneer, thickness of core, thickness of inner veneers, width, or length). However, the most common panel sizes of hardwood and decorative plywood are 1219 x 1829 mm (48 x 72 inches), 1219 x 2438 mm (48 x 96 inches), and 1219 x 3048 mm (48 x 120 inches).

Subject merchandise also includes hardwood and decorative plywood that has been further processed in a third country, including but not limited to trimming, cutting, notching, punching, drilling, or any other processing that would not otherwise remove the merchandise from the scope of the investigation if performed in the country of manufacture of the in-scope product.

The scope of the investigation excludes the following items: (1) Structural plywood (also known as “industrial plywood” or “industrial panels”) that is manufactured to meet U.S. Products Standard PS 1-09, PS 2-09, or PS 2-10 for Structural Plywood (including any revisions to that standard or any substantially equivalent international standard intended for structural plywood), and which has both a face and a back veneer of coniferous wood; (2) products which have a face and back veneer of cork; (3) multilayered wood flooring, as described in the antidumping duty and countervailing duty orders on Multilayered Wood Flooring from the People's Republic of China, Import Administration, International Trade Administration. See Multilayered Wood Flooring from the People's Republic of China, 76 FR 76690 (December 8, 2011) (amended final determination of sales at less than fair value and antidumping duty order), and Multilayered Wood Flooring from the People's Republic of China, 76 FR 76693 (December 8, 2011) (countervailing duty order), as amended by Multilayered Wood Flooring from the People's Republic of China: Amended Antidumping and Countervailing Duty Orders, 77 FR 5484 (February 3, 2012); (4) multilayered wood flooring with a face veneer of bamboo or composed entirely of bamboo; (5) plywood which has a shape or design other than a flat panel, with the exception of any minor processing described above; (6) products made entirely from bamboo and adhesives (also known as “solid bamboo”); and (7) Phenolic Film Faced Plyform (PFF), also known as Phenolic Surface Film Plywood (PSF), defined as a panel with an “Exterior” or “Exposure 1” bond classification as is defined by The Engineered Wood Association, having an opaque phenolic film layer with a weight equal to or greater than 90g/m3 permanently bonded on both the face and back veneers and an opaque, moisture resistant coating applied to the edges.

Excluded from the scope of this investigation are wooden furniture goods that, at the time of importation, are fully assembled and are ready for their intended uses. Also excluded from the scope of this investigation is “ready to assemble” (RTA) furniture. RTA furniture is defined as (A) furniture packaged for sale for ultimate purchase by an end-user that, at the time of importation, includes (1) all wooden components (in finished form) required to assemble a finished unit of furniture, (2) all accessory parts (e.g., screws, washers, dowels, nails, handles, knobs, adhesive glues) required to assemble a finished unit of furniture, and (3) instructions providing guidance on the assembly of a finished unit of furniture; (B) unassembled bathroom vanity cabinets, having a space for one or more sinks, that are imported with all unassembled hardwood and hardwood plywood components that have been cut-to-final dimensional component shape/size, painted or stained prior to importation, and stacked within a singled shipping package, except for furniture feet which may be packed and shipped separately; or (C) unassembled bathroom vanity linen closets that are imported with all unassembled hardwood and hardwood plywood components that have been cut-to-final dimensional shape/size, painted or stained prior to importation, and stacked within a single shipping package, except for furniture feet which may be packed and shipped separately.

Excluded from the scope of this investigation are kitchen cabinets that, at the time of importation, are fully assembled and are ready for their intended uses. Also excluded from the scope of this investigation are RTA kitchen cabinets. RTA kitchen cabinets are defined as kitchen cabinets packaged for sale for ultimate purchase by an end-user that, at the time of importation, includes (1) all wooden components (in finished form) required to assemble a finished unit of cabinetry, (2) all accessory parts (e.g., screws, washers, dowels, nails, handles, knobs, hooks, adhesive glues) required to assemble a finished unit of cabinetry, and (3) instructions providing guidance on the assembly of a finished unit of cabinetry.

Excluded from the scope of this investigation are finished table tops, which are table tops imported in finished form with pre-cut or drilled openings to attach the underframe or legs. The table tops are ready for use at the time of import and require no further finishing or processing.

Excluded from the scope of this investigation are finished countertops that are imported in finished form and require no further finishing or manufacturing.

Excluded from the scope of this investigation are laminated veneer lumber door and window components with (1) a maximum width of 44 millimeters, a thickness from 30 millimeters to 72 millimeters, and a length of less than 2413 millimeters (2) water boiling point exterior adhesive, (3) a modulus of elasticity of 1,500,000 pounds per square inch or higher, (4) finger-jointed or lap-jointed core veneer with all layers oriented so that the grain is running parallel or with no more than 3 dispersed layers of veneer oriented with the grain running perpendicular to the other layers; and (5) top layer machined with a curved edge and one or more profile channels throughout.

Imports of hardwood plywood are primarily entered under the following Harmonized Tariff Schedule of the United States (HTSUS) subheadings: 4412.10.0500; 4412.31.0520; 4412.31.0540; 4412.31.0560; 4412.31.0620; 4412.31.0640; 4412.31.0660; 4412.31.2510; 4412.31.2520; 4412.31.2610; 4412.31.2620; 4412.31.4040; 4412.31.4050; 4412.31.4060; 4412.31.4075; 4412.31.4080; 4412.31.4140; 4412.31.4150; 4412.31.4160; 4412.31.4180; 4412.31.5125; 4412.31.5135; 4412.31.5155; 4412.31.5165; 4412.31.5175; 4412.31.5235; 4412.31.5255; 4412.31.5265; 4412.31.5275; 4412.31.6000; 4412.31.6100; 4412.31.9100; 4412.31.9200; 4412.32.0520; 4412.32.0540; 4412.32.0565; 4412.32.0570; 4412.32.0620; 4412.32.0640; 4412.32.0670; 4412.32.2510; 4412.32.2525; 4412.32.2530; 4412.32.2610; 4412.32.2630; 4412.32.3125; 4412.32.3135; 4412.32.3155; 4412.32.3165; 4412.32.3175; 4412.32.3185; 4412.32.3235; 4412.32.3255; 4412.32.3265; 4412.32.3275; 4412.32.3285; 4412.32.5600; 4412.32.3235; 4412.32.3255; 4412.32.3265; 4412.32.3275; 4412.32.3285; 4412.32.5700; 4412.94.1030; 4412.94.1050; 4412.94.3105; 4412.94.3111; 4412.94.3121; 4412.94.3141; 4412.94.3161; 4412.94.3175; 4412.94.4100; 4412.99.0600; 4412.99.1020; 4412.99.1030; 4412.99.1040; 4412.99.3110; 4412.99.3120; 4412.99.3130; 4412.99.3140; 4412.99.3150; 4412.99.3160; 4412.99.3170; 4412.99.4100; 4412.99.5115; and 4412.99.5710.

Imports of hardwood plywood may also enter under HTSUS subheadings 4412.99.6000; 4412.99.7000; 4412.99.8000; 4412.99.9000; 4412.10.9000; 4412.94.5100; 4412.94.9500; and 4412.99.9500. While the HTSUS subheadings are provided for convenience and customs purposes, the written description of the scope of this investigation is dispositive.

[FR Doc. 2017-24864 Filed 11-15-17; 8:45 am]

BILLING CODE 3510-DS-P